DEPARTMENT OF THE INTERIOR

Fish and Wildlife Service

Running Buffalo Clover (Trifolium stoloniferum) Recovery Plan Revision

AGENCY: Fish and Wildlife Service, Interior.

ACTION: Notice of availability.

SUMMARY: We, the U.S. Fish and Wildlife Service (Service), announce availability of the approved revised recovery plan for running buffalo clover (Trifolium stoloniferum). This species is federally listed as endangered under the Endangered Species Act of 1973, as amended (Act).

ADDRESSES: You may obtain a copy of the recovery plan by any of the following means:

1. World Wide Web: http://midwest.fws.gov/endangered; or

2. U.S. mail or in-person pickup: Field Supervisor, U.S. Fish and Wildlife Service, 6950 Americana Parkway, Suite H, Reynoldsburg, OH 43068-4127; telephone, (614) 469-6923.

FOR FURTHER INFORMATION CONTACT: Ms. Sarena M. Selbo at the above address and telephone (ext. 17). TTY users may contact Ms. Selbo through the Federal Relay Service at (800) 877-8339.

SUPPLEMENTARY INFORMATION:

Background

Restoring an endangered or threatened animal or plant species to the point where it is again a secure, self-sustaining member of its ecosystem is a primary goal of the Service's endangered species program. Recovery plans describe actions considered necessary for conservation of the species, establish criteria for reclassification and delisting, and provide estimates of the time and cost for implementing recovery measures.

The Act (16 U.S.C. 1531 et seq.) requires the development of recovery plans for listed species, unless such a plan would not promote the conservation of a particular species. Section 4(f) of the Act, as amended in 1988, requires that we provide public notice and opportunity for public review and comment during recovery plan development. We announced availability of our draft revised recovery plan in the Federal Register on August 12, 2005 (70 FR 47222), and requested public comments. The comment period closed on October 11, 2005. In our preparation of the approved revised recovery plan, we considered information provided to us during the comment period, and we have summarized this information in an appendix to the revised recovery plan.

Running buffalo clover was listed as endangered on July 6, 1987. The original recovery plan was approved on July 8, 1989. This is the first recovery plan revision. Running buffalo clover formerly occurred from West Virginia to Kansas. It is currently extant in limited portions of Indiana, Kentucky, Ohio, Missouri, and West Virginia. Running buffalo clover occurs in mesic habitats of partial to filtered sunlight, where there is a prolonged pattern of moderate periodic disturbance, such as mowing, trampling, or grazing. It is most often found in regions underlain with limestone or other calcareous bedrock.

The primary threat to running buffalo clover is habitat alteration. Factors that contribute to this threat include natural forest succession and subsequent canopy closure, competition by invasive plant species, and catastrophic disturbance such as development or road construction. The elimination of bison and other large herbivores may also be a threat to this species. In addition to these threats, inherent biological vulnerabilities of running buffalo clover include its reliance on pollinators, seed scarification, and dispersal mechanisms, as well as a dependence on disturbance.

Given the known threats and constraints, the recovery effort for running buffalo clover focuses primarily on increasing the number of conserved and managed populations, determining the viability of existing populations, and research on the species ecological requirements. Key to this strategy is the conservation and management of various-sized populations of running buffalo clover throughout the species' geographic range. The recovery criteria and actions rely heavily on retaining and managing suitable habitat. A greater understanding of the biotic and abiotic needs of running buffalo clover is also key to the species recovery.

Downlisting Criteria

Running buffalo clover will be considered for downlisting to threatened status when the likelihood of the species becoming extinct in the foreseeable future has been eliminated by achievement of the following criteria:

(1) Seventeen populations, in total, are distributed as follows: 1 A-ranked, 3 B-ranked, 3 C-ranked, and 10 D-ranked populations across at least 2 of the 3 regions in which running buffalo clover currently occurs (Appalachian, Bluegrass, and Ozark). The number of populations required in each rank is based on what would be necessary to achieve a 95 percent probability of persistence within the next 20 years based on population viability analysis.

(2) For each A-ranked and B-ranked population described in downlisting criterion 1, population viability analysis indicates a 95 percent persistence within the next 20 years, or, for any population that does not meet the 95 percent persistence standard, the population meets the definition of viable. For downlisting purposes, viability is defined as follows: (A) Seed production is occurring; (B) the population is stable or increasing, based on at least 5 years of censusing; and (C) appropriate management techniques are in place.

(3) The land on which each of the populations described in downlisting criterion 1 occurs is owned by a government agency or private conservation organization that identifies maintenance of the species as one of the primary conservation objectives for the site, or, the population is protected by a conservation agreement that commits the landowner to habitat management for the species. Natural resource management plans on Federal lands may be suitable for meeting this criterion.

Delisting Criteria

Running buffalo clover will be considered for delisting when the likelihood of the species becoming threatened in the foreseeable future has been eliminated by the achievement of the following criteria:

(1) Thirty-four populations, in total, are distributed as follows: 2 A-ranked, 6 B-ranked, 6 C-ranked, and 20 D-ranked populations across at least 2 of the 3 regions in which running buffalo clover occurs (Appalachian, Bluegrass, and Ozark). The number of populations in each rank is based on what would be required to achieve a 95 percent probability of persistence within the next 20 years; this number was doubled to ensure biological redundancy across the range of the species.

(2) For each A-ranked and B-ranked population described in delisting criterion 1, population viability analysis indicates a 95 percent probability of persistence within the next 20 years, or, for any population that does not meet the 95 percent persistence standard, the population meets the definition of viable. For delisting purposes, viability is defined as follows: (A) Seed production is occurring; (B) the population is stable or increasing, based on at least 10 years of censusing; and (C) appropriate management techniques are in place.

(3) The land on which each of the populations described in delisting criterion 1 occurs is owned by a government agency or private conservation organization that identifies maintenance of the species as one of the primary conservation objectives for the site, or, the population is protected by a conservation agreement that commits the landowner to habitat management for the species. Natural resource management plans on Federal lands may be suitable for meeting this criterion.

Authority: The authority for this action is Section 4(f) of the Endangered Species Act, 16 U.S.C. 1533(f).

Dated: June 5, 2007.
Lynn Lewis,
Deputy Assistant Regional Director, Ecological Services, Region 3.

[FR Doc. E7-12409 Filed 6-26-07; 8:45 am]

BILLING CODE 4310-55-P